NUCLEAR REGULATORY COMMISSION

Notice of Availability of Additional Draft Guidance for Review of Early Site Permit Applications

The U.S. Nuclear Regulatory Commission (the Commission) has published additional draft guidance for the Commission's review of early site permit (ESP) applications. The ESP process is intended, under Title 10 of the Code of Federal Regulations (10 CFR) part 52, to permit resolution of site-related issues regarding possible future construction and operation of a nuclear power plant at a site that is the subject of the ESP application. The Commission released a draft version of a review standard for ESPs on December 26, 2002 (68 FR 132). Since the release of that document for interim use and public comment, additional draft guidance has been developed in the areas of quality assurance and accident analysis. The Commission is now releasing this additional draft guidance for interim use and public comment. The draft review standard (including the additional guidance just released) is primarily intended to guide the Commission staff in its review of an ESP application, with a secondary purpose of informing potential applicants for an ESP and other stakeholders of information the staff needs to perform its review. The Commission plans to issue a final version of the review standard by the end of 2003; that version will incorporate the additional guidance developed as discussed herein.

The newly published additional draft guidance is available electronically for public inspection in the NRC Public Document Room located at One White Flint North, 11555 Rockville Pike (first floor), Rockville, Maryland, or from the Publicly Available Records (PARS) component of NRC's document system (ADAMS #ML030970186). ADAMS is accessible from the NRC Web site at http://www.nrc.gov/reading-rm/adams.html (the Public Electronic Reading Room). Any interested party may submit comments on the draft guidance for consideration by the NRC staff. To be certain of consideration, comments on the draft guidance must be received by June 13, 2003. Comments received after the due date will be considered if it is practical to do so, but the NRC staff is able to assure consideration only for comments received on or before this date. Written comments on the draft guidance should be sent to: Director, New Reactor Licensing Project Office, Office of Nuclear Reactor Regulation, Mailstop O-4D9A, U.S. Nuclear Regulatory Commission, Washington, DC 20555-0001. Comments may be hand-delivered to the NRC at 11555 Rockville Pike, Rockville, Maryland, between 7:45 a.m. and 4:15 p.m. on Federal workdays. Comments may be submitted electronically by the Internet to the NRC at esprs@nrc.gov. All comments received by the Commission, including those made by Federal, State, and local agencies, Indian tribes, or other interested persons, will be made available electronically at the Commission's Public Document Room in Rockville, Maryland or from the Publicly Available Records (PARS) component of NRC's document system (ADAMS).

FOR FURTHER INFORMATION CONTACT: Mr. Michael L. Scott, Project Manager, New Reactor Licensing Project Office, U.S. Nuclear Regulatory Commission, Washington, DC 20555. Mr. Scott may be contacted at (301) 415-1421 or by e-mail at mls3@nrc.gov.

Dated at Rockville, Maryland, this 11th day of April, 2003.
For the Nuclear Regulatory Commission.
James E. Lyons,
Director, New Reactor Licensing Project Office, Office of Nuclear Reactor Regulation.

[FR Doc. 03-9439 Filed 4-16-03; 8:45 am]

BILLING CODE 7590-01-P